DEPARTMENT OF ENERGY

Federal Energy Regulatory Commission

[Docket No. CP95-35-000]

EcoEléctrica, L.P.; Notice of Technical Conference

On July 28, 2022, the Commission issued an order directing Commission staff to convene a technical conference regarding issues raised related to the structural analysis of EcoEléctrica, L.P.'s (EcoEléctrica) liquefied natural gas (LNG) storage tank at its LNG terminal in Peñuelas, Puerto Rico.¹ The technical conference will be held on January 18-19, 2023, from approximately 9:00 a.m. to 4:00 p.m. Eastern time. The conference will be held virtually and in person (Federal Energy Regulatory Commission, 888 First Street NE, Washington, DC).

¹ EcoEléctrica, L.P., 180 FERC ¶ 61,054 (2022).

The conference will include discussions between EcoEléctrica staff and contractors, Commission staff and contractors, other federal agencies staff and contractors, and parties to the proceeding that request to attend and follow procedures described herein. These parties should be prepared to discuss the record in this proceeding, particularly the questions and issues raised in the Commission's September 24, 2021 Order Establishing Briefing, subsequent orders, and the briefs responding thereto.² If time permits, there may be an opportunity for attendees to the technical conference to submit questions for discussion. Following the technical conference, parties to the proceeding may submit written post-technical conference comments on or before February 17, 2023, which will be included in the record of the proceeding. Any comments filed that contain privileged or Critical Energy/Electric Infrastructure Information (CEII) should be filed in accordance with the Commission's regulations and the protective agreement in this proceeding.

² EcoEléctrica, L.P., 176 FERC ¶ 61,192 (2021) (Briefing Order); EcoEléctrica, L.P., 177 FERC ¶ 61,164 (2021) (Order Partially Granting Request for Extension of Time); EcoEléctrica, L.P.,179 FERC ¶ 61,038 (2022) (Order on Initial Brief), order on reh'g, 180 FERC ¶ 61,054 (2022). See also, EcoElectrica, L.P.'s February 8, 2022 Initial Brief and Supplements.

The technical conference will not be open for the public to attend. Only those specified in the preceding paragraph may attend. Any party to the proceeding that wishes to attend the technical conference must sign and file with the Commission the protective agreement filed by EcoEléctrica on August 16, 2022, no later than 10 days prior to the conference and must notify FERC staff of the number of persons planning to attend in person and virtually. Any federal agency that wishes to attend the technical conference must have a signed and executed acknowledgment and agreement and/or memorandum of understanding with the Commission that covers information sharing relevant to the preceding described above no later than 10 days prior to the conference and must notify FERC staff of the number of persons planning to attend in person and virtually.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference including how to participate, virtual and in person meeting details, etc., please contact Karla Bathrick at karla.bathrick@ferc.gov or at (202) 502-6328.

Dated: December 14, 2022.
Kimberly D. Bose,
Secretary.

[FR Doc. 2022-27588 Filed 12-19-22; 8:45 am]

BILLING CODE 6717-01-P